FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel—Operating Common Carrier Ocean Transportation Intermediary Applicants:

PATJAM Shipping, Moving and Storage Inc., dba Patrick's Shipping Inc., 3477 NW. 19th Street, Lauderdale Lakes, FL 33311, Officers: Patrick McNeil, President (Qualifying Individual), Michael Scarlett, Secretary.

Shiplane Transport, Inc., 2620 N. Oak Park, Chicago, IL 60707, Officers: Elizabeth Esparza, Vice President, (Qualifying Individual), Peter F. Kennedy, President.

Conceptum TBS Projects LLC, 612 E. Grassy Sprain Road, Yonkers, NY 10710, Officer: John Broadbent, President (Qualifying Individual).

Non-Vessel-Operating Common Carrier and Ocean Freight Forwarder Transportation Intermediary Applicants:

Loginorth Inc., 7088 NW. 50 Street, Miami, FL 33166, Officer: Mario A. De Jesus, President (Qualifying Individual).

Eagle Logistic Service, Inc., 708 3rd Avenue, 5th Floor, New York, NY 10017, Officers: Ching Leung Cheung, President (Qualifying Individual), Xiao Peng Wei, Vice President.

Goal Ocean & Air Logistics Inc., 1817 West 7 Street, Suite 2R, Brooklyn, NY 11223, Officers: Cheuk Shing Yu, President, (Qualifying Individual) Yat Sing Tse, Secretary.

Ocean Freight Forwarder—Ocean Transportation Intermediary Applicant:

GAL International Inc., 5070 Parkside Avenue, Suite 3104, Philadelphia, PA 19131, Officers: Gbola Laosebikan, President, (Qualifying Indiviual) Ope Blaize, Vice President.

Dated: January 19, 2007.
Bryant L. VanBrakle,
Secretary.

[FR Doc. E7-1001 Filed 1-23-07; 8:45 am]

BILLING CODE 6730-01-P